DEPARTMENT OF ENERGY

Federal Energy Regulatory Commission

[Docket No. RP97-255-014]

TransColorado Transmission Company; Notice of Tariff Filing

Take notice that on September 29, 2000, TransColorado Gas Transmission Company (TransColorado) tendered for filing to become part of its FERC Gas Tariff Original Volume No. 1, the following tariff sheets, with an effective date of October 1, 2000:

Fourteenth Revised Sheet No. 21

Tenth Revised Sheet No. 22

TransColorado states that the filing is being made in compliance with the Commission's letter order issued March 20, 1997, in Docket No. RP97-255-000.

TransColorado states that the tendered tariff sheets revised TransColorado's Tariff to reflect the new negotiated-rate firm transportation service contracts with Barrett Resources Corporation, Sempra Energy Trading, Enserco Energy, Inc., Dominion Exploration & Production, Texaco Natural Gas Inc. and Dynegy Marketing and Trade. TransColorado requested waiver of 18 CFR 154.207 so that the tendered tariff sheet may become effective October 1, 2000.

TransColorado stated that a copy of this filing has been served upon all parties to this proceeding, TransColorado's customers, the Colorado Public Utilities Commission and the New Mexico Public Utilities Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26040 Filed 10-10-00; 8:45 am]

BILLING CODE 6717-01-M